DEPARTMENT OF DEFENSE

Department of the Army

[USA-2008-0003]

Privacy Act of 1974; System of Records

AGENCY: Department of the Army.

ACTION: Notice to amend a system of records.

SUMMARY: The Department of the Army is amending a system of records notices in its existing inventory of record systems subject to the Privacy Act of 1974, (5 U.S.C. 552a), as amended.

DATES: This proposed action will be effective without further notice on February 27, 2008 unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Mr. Robert Dickerson at (703) 428-6513.

SUPPLEMENTARY INFORMATION: The Department of Army systems of records notices subject to the Privacy Act of 1974, (5 U.S.C. 552a), as amended, have been published in the Federal Register and are available from the address above.

The specific changes to the record systems being amended are set forth below followed by the notice, as amended, published in its entirety. The proposed amendments are not within the purview of subsection (r) of the Privacy Act of 1974, (5 U.S.C. 552a), as amended, which requires the submission of a new or altered system report.

Dated: January 22, 2008.
L.M. Bynum,
Alternative OSD Federal Register Liaison Officer, Department of Defense.

A0715-9 DCS, G-4

System name:

Support Personnel Deployment Records (September 28, 2005, 70 FR 56646).

Changes:

* * * * *

System location

Add third paragraph “Archive location: Naval Postgraduate School Computer Center, Naval Postgraduate School, Monterey, CA 93943-5000.”

* * * * *

Retention and disposal:

Delete entry and replace with “Permanent. Keep until individual's deployment is terminated and then retire to the Army Electronic Archives (AEA). The AEA will transfer to the National Archives when the record is 25 years old.”

* * * * *

A0715-9 DCS, G-4

System name:

Support Personnel Deployment Records.

System location:

Primary location:

The Army Knowledge office, 10125 Beach Road, Fort Belvoir, VA 22060-5801

Secondary location

Major Army commands, field operating agencies, installations and activities Army-wide. Official mailing addresses are published as an appendix to the Army's compilation of systems of records notices.

Archive location:

Naval Postgraduate School Computer Center, Naval Postgraduate School, Monterey, CA 93943-5000.

Categories of individuals covered by the system:

Military and civilian employees and contractors who are supporting ongoing contingency operations for active military missions.

Categories of records in the system:

Records include a profile containing: full name of the individual; social security number(SSN); home, office, and deployed telephone numbers; home address and deployed address; home, office, and deployed e-mail addresses; emergency contact name and telephone numbers; contract number and contractor organization name, along with employer's contact name, address, and telephone number; next of kin name, phone and address; air travel itineraries and movements in theater of operations; copies of passport and/or visa and common access or identification card; photograph; trip information (e.g., destinations, reservation information); travel authorization information (e.g., Government orders or letters of authorization); trip dates; deployment processing information including training completed certifications, medical and dental screenings, blood type; and other official deployment-related information.

Authority for maintenance of the system:

Public Law 108-375, Section 1205 and 1206; 10 U.S.C. 3013, Secretary of the Army; AR 715-9, Army Contractor Accompanying The Force; Field Manuel 3-100.21, Contactor on the Battlefield; and E.O. 9397 (SSN).

Purpose(s):

To plan and manage support personnel who deploy in support of ongoing contingency operations for active military missions; to conduct statistical studies for assisting in the management and accountability of support services.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of the Army's compilation of systems of records notices also apply to this system.

Policies and practices for storing, retrieving, accessing, retaining, and disposing of records in the system:

Storage:

Electronic storage media.

Retrievability:

Name and Social Security Number (SSN).

Safeguards:

Computerized records are maintained in a controlled area accessible only to authorized personnel. Entry to these areas is restricted to those personnel with a valid requirement and authorization to enter. Physical entry is restricted by the use of locks, guards, and administrative procedures. Access to any specific record is based on the need-to-know and the specific level of authorization granted to the user. Physical and electronic access is restricted to designated individuals having a need-to-know in the performance of official duties. Access to personal information is further restricted by the use of the Army Knowledge Online database (AKO) single sign-on and password authorization.

Retention and disposal:

Permanent. Keep until individual's deployment is terminated and then retire to the Army Electronic Archives (AEA). The AEA will transfer to the National Archives when the record is 25 years old.

System manager(s) and address:

Commander, Communication-Electronics Life Cycle Management Command, ATTN: CE-LCMC SPO, Fort Monmouth, NJ 07703-5000.

Notification procedure:

Individuals seeking to determine whether information about themselves is contained in this system should address written inquiries to the appropriate administrative office of their employing agency.

For verification purposes, individual should provide full name, SSN, sufficient details to permit locating pertinent records, and signature.

Records Access Procedure:

Individuals seeking access to information about themselves contained in this system should address written inquiries to the appropriate administrative office of their employing agency.

For verification purposes, individual should provide full name, SSN, sufficient details to permit locating pertinent records, and signature.

Contesting Records Procedures:

The Army's rules for accessing records, and for contesting contents and appealing initial agency determinations are contained in Army Regulation 340-21; 32 CFR part 505; or may be obtained from the system manager.

Record Source Categories:

Individuals, their employers, travel documentation, and service providers.

Exemptions claimed for the system:

None.

[FR Doc. E8-1391 Filed 1-25-08; 8:45 am]

BILLING CODE 5001-06-P